DEPARTMENT OF TRANSPORTATION

Federal Aviation Administration

14 CFR Part 39

[Docket No. FAA-2005-22120; Directorate Identifier 2004-NM-92-AD]

RIN 2120-AA64

Airworthiness Directives; Airbus Model A319-100 Series Airplanes, Model A320-111 Airplanes, Model A320-200 Series Airplanes, and Model A321-100 Series Airplanes

AGENCY: Federal Aviation Administration (FAA), Department of Transportation (DOT).

ACTION: Notice of proposed rulemaking (NPRM).

SUMMARY: The FAA proposes to adopt a new airworthiness directive (AD) for Airbus Model A319-100 series airplanes, Model A320-111 airplanes, Model A320-200 series airplanes, and Model A321-100 series airplanes equipped with any additional center tank (ACT). This proposed AD would require identifying the part number of the ACT and, for certain ACTs, replacing the outer ACT manhole cover and seal. This proposed AD is prompted by reports of an ACT fuel transfer failure due to air leakage around the seal of the outer manhole covers of the ACTs. We are proposing this AD to prevent this leakage, which could result in fuel or fuel vapor leaking into the cargo compartment, and consequent increased risk of a fire in the cargo compartment.

DATES: We must receive comments on this proposed AD by September 16, 2005.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-22120; the directorate identifier for this docket is 2004-NM-92-AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed under ADDRESSES. Include “Docket No. FAA-2005-22120; Directorate Identifier 2004-NM-92-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on Airbus Model A319-100 series airplanes, Model A320-111 airplanes, Model A320-200 series airplanes, and Model A321-100 series airplanes equipped with certain additional center tanks (ACTs). The DGAC advises that it has received reports of an ACT fuel transfer failure due to extrusion of the outer ACT manhole cover seals, which allowed air leaks. Subsequent analysis revealed the need to change the installation process and modify the seal material to ensure a proper seal. Leakage around the ACT outer manhole cover seals could result in fuel or fuel vapor leaking into the cargo compartment, and consequent increased risk of a fire in the cargo compartment.

Relevant Service Information

Airbus has issued Service Bulletin A320-28-1105, Revision 01, dated March 18, 2003. The service bulletin describes procedures for airplanes having affected ACTs for replacing the outer ACT manhole cover with a reinforced manhole cover, and replacing the outer manhole cover seal with a new seal. The DGAC mandated Service Bulletin A320-28-1105 and issued French airworthiness directive F-2004-038, dated March 17, 2004, to ensure the continued airworthiness of these airplanes in France. Accomplishing the actions specified in the service information is intended to adequately address the unsafe condition.

Service Bulletin A320-28-1105 states that its accomplishment “requires the prior or simultaneous accomplishment” of Service Bulletin A320-28-1087. However, this proposed AD would not require the actions specified in Service Bulletin A320-28-1087 because those actions are required by AD 2004-23-04, amendment 39-13859 (69 FR 65523, November 15, 2004).

Airbus Service Bulletin A320-28-1105 notes that Airbus Service Bulletins A320-28-1098 and A320-28-1086 “can be done” at the same time as Service Bulletin A320-28-1105, yet identifies those service bulletins as “concurrent requirements.” This proposed AD would not require either Service Bulletin A320-28-1086 (because those actions are required by AD 2004-23-04) or A320-28-1098 (because we have determined that those actions are not necessary to address the unsafe condition identified in this proposed AD).

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the applicable actions specified in the service information described previously, except as discussed below.

Difference Between Proposed AD and French Airworthiness Directive

The French airworthiness directive limits its applicability to Airbus Model A319-100 series airplanes, Model A320-111 airplanes, Model A320-200 series airplanes, and Model A321-100 series airplanes equipped with ACTs having certain part numbers. However, this proposed AD would not limit the applicability to certain ACT part numbers, but would require operators to first identify the ACT part number and then modify only the affected ACTs. This action will ensure that the unsafe condition is addressed on the fleet.

Costs of Compliance

The following table provides the estimated costs for U.S. operators to comply with this proposed AD.

Estimated Costs
Action | Work hours | Average hourly labor rate | Parts | Cost per airplane | Number of U.S.-registered airplanes | Fleet cost
P/N identification | 1 | $65 | $0 | $65 | 28 | $1,820

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act. We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-22120; Directorate Identifier 2004-NM-92-AD.

Comments Due Date

(a) The Federal Aviation Administration must receive comments on this AD action by September 16, 2005.

Affected ADs

(b) None.

Applicability: (c) This AD applies to Airbus Model A319-111, -112, -113, -114, -115, -131, -132, and -133 airplanes; Model A320-111, -211, -212, -214, -231, -232, and -233 airplanes; and Model A321-111, -112, and -131 airplanes; certificated in any category; which are equipped with any additional center tank (ACT).

Unsafe Condition

(d) This AD was prompted by reports of an ACT fuel transfer failure due to air leakage around the seal of the outer manhole covers of the ACTs. We are requiring this AD to prevent this leakage, which could result in fuel or fuel vapor leaking into the cargo compartment, and consequent increased risk of a fire in the cargo compartment.

Compliance: (e) You are responsible for having the actions required by this AD performed within the compliance times specified, unless the actions have already been done.

Part Number Identification

(f) Within 30 days (for Model A319-111, -112, -113, -114, -115, -131, -132, and -133 airplanes) or 12 months (for Model A320-111, -211, -212, -214, -231, -232, and -233 airplanes; and Model A321-111, -112, and -131 airplanes) after the effective date of this AD: Determine whether the part number (P/N) of each ACT installed on the airplane is included in Table 1 of this AD. If no ACT installed on the airplane has a P/N included in Table 1 of this AD, no further work is required by this paragraph.

Table 1.—Affected ACT P/Ns
D2827091100000
D2827091100200
D2827091100600
D2827091300000
D2827091300200
D2827091300400
D2827105100000
D2827105100200
D2827105100400
D2827105200000
D2827105200200
D2827105200400
D2827105300000
D2827105300200
D2827105300400
D2827105400000
D2827105400200
D2827105400400
D2827105400600
D2827105400800
D2827105500000
D2827105500200
D2827105500400
D2827105600000
D2827105600200
D2827105600400
D2827107500000
D2827107500200

Manhole Cover/Seal Replacement

(g) Within 30 days (for Model A319-111, -112, -113, -114, -115, -131, -132, and -133 airplanes) or 12 months (for Model A320-111, -211, -212, -214, -231, -232, and -233 airplanes; and Model A321-111, -112, and -131 airplanes) after the effective date of this AD: For each ACT P/N listed in Table 1 of this AD: Before further flight, replace the outer ACT manhole cover with a reinforced manhole cover and replace the outer manhole cover seal with a new seal, in accordance with the Accomplishment Instructions of Airbus Service Bulletin A320-28-1105, Revision 01, dated March 18, 2003. Replacements are also acceptable if done before the effective date of this AD in accordance with Airbus Service Bulletin A320-28-1105, dated October 22, 2002.

Parts Installation

(h) As of the effective date of this AD, no person may install an ACT having any P/N listed in Table 1 of this AD, unless the actions required by paragraph (g) of this AD have been done for that ACT.

Alternative Methods of Compliance (AMOCs)

(i) The Manager, International Branch, ANM-116, Transport Airplane Directorate, FAA, has the authority to approve AMOCs for this AD, if requested in accordance with the procedures found in 14 CFR 39.19.

Related Information

(j) French airworthiness directive F-2004-038, dated March 17, 2004, also addresses the subject of this AD.

Issued in Renton, Washington, on August 10, 2005.
Kalene C. Yanamura,
Acting Manager, Transport Airplane Directorate, Aircraft Certification Service.

[FR Doc. 05-16263 Filed 8-16-05; 8:45 am]

BILLING CODE 4910-13-P